DEPARTMENT OF HOMELAND SECURITY

Federal Emergency Management Agency

[Docket ID: FEMA-2025-0047; OMB No. 1660-0152]

Agency Information Collection Activities: Submission for OMB Review, Comment Request; FEMA-Administered Disaster Case Management

AGENCY: Federal Emergency Management Agency, Department of Homeland Security.

ACTION: 30-Day Notice of Reinstatement and Request for Comments.

SUMMARY: The Federal Emergency Management Agency (FEMA) will submit the information collection abstracted below to the Office of Management and Budget for review and clearance in accordance with the requirements of the Paperwork Reduction Act of 1995. FEMA invites the general public to take this opportunity to comment on a reinstatement, without change, of a previously approved information collection for which approval has expired. In accordance with the requirements of the Paperwork Reduction Act of 1995, this notice seeks comments concerning information collected for a FEMA-Administered Disaster Case Management (DCM) program implemented following a major disaster declaration.

DATES: Comments must be submitted on or before March 13, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Heather Spadaro, Section Chief, Community Services Section, Individual Assistance Division, 202-646-3642, and fema-hq.css@fema.dhs.gov.

SUPPLEMENTARY INFORMATION: Pursuant to Executive Order (E.O.) 12148, as amended by E.O. 12673 and E.O. 13286, the President of the United States has delegated to the Department of Homeland Security (DHS), including FEMA, the authority to provide case management services pursuant to the Robert T. Stafford Disaster Relief and Emergency Assistance Act (Stafford Act), 42 U.S.C. 5189d. Under the Stafford Act, FEMA may provide DCM services directly to survivors through financial assistance to State, Tribal, or local government agencies or qualified private organizations. DCM services include identifying and addressing disaster-caused unmet needs of survivors through identification of, and referrals to, available resources. A disaster-caused unmet need is an un-resourced item, support, or assistance that has been assessed and verified as necessary for a survivor to recover from a disaster. This may include food, clothing, shelter, first aid, emotional and spiritual care, household items, home repair, or rebuilding. When a case manager speaks to a survivor, they will ask the survivor to provide information through a series of questions (data elements), as outlined within the intake form. This will allow the case manager to better understand the survivor's disaster-caused unmet needs, to identify what types of referrals the case manager may provide, and to decide whether there is a need to meet again to address continuing disaster-caused unmet needs. Case managers then type the responses to the data elements into their proprietary electronic secured case management database.

This proposed information collection previously published in the Federal Register on August 1, 2025, at 90 FR 36167 with a 60-day public comment period. One public comment was received (FEMA-2025-0047-0002) that suggests changes to the overall Disaster Case Management Program, but not germane to these collection forms. The purpose of this notice is to notify the public that FEMA will submit the information collection abstracted below to the Office of Management and Budget for review and clearance.

Collection of Information

Title: FEMA-Administered Disaster Case Management.

Type of Information Collection: Reinstatement, without change, of a previously approved information collection.

OMB Number: 1660-0152.

FEMA Forms: FEMA Form FF-104-FY-21-146, Administered DCM Intake Form; and FEMA Form FF-104-FY-21-147, Consent Form.

Abstract: This collection tool will primarily be used as a guide to support FEMA-administered DCM case managers by outlining the allowable data elements they can collect from survivors on behalf of FEMA. While there will be a paper collection tool, the case managers will primarily be using the tool as a reference for data elements they can collect and using their own case management database systems to guide the order in which the elements are collected. The elements within the tool are used to assess, screen, and refer disaster survivors to available resources that address their specific disaster-related unmet needs. Case managers then take the information from the intake form and manually upload the data into their secured case management database. Prior to any data collection, survivors will complete and sign a FEMA administered DCM Consent Form, authorizing FEMA, or its agent, to collect data from the survivor in order to effectively provide case management services.

Affected Public: Individuals and Households.

Estimated Number of Respondents: 30,750.

Estimated Number of Responses: 30,750.

Estimated Total Annual Burden Hours: 19,680.

Estimated Total Annual Respondent Cost: $932,045.

Estimated Respondents' Operation and Maintenance Costs: $0.

Estimated Respondents' Capital and Start-Up Costs: $0.

Estimated Total Annual Cost to the Federal Government: $51,693,869.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Nigel S. Allicock,
Records Management Branch Chief, Office of the Chief Administrative Officer, Mission Support, Federal Emergency Management Agency, Department of Homeland Security.

[FR Doc. 2026-02683 Filed 2-10-26; 8:45 am]

BILLING CODE 9111-24-P